SECURITIES AND EXCHANGE COMMISSION

Proposed Collection; Comment Request

Upon Written Request, Copies Available From: Securities and Exchange Commission, Office of Filings and Information Services, Washington, DC 20549.

Extension:

Rule 15c2-11; SEC File No. 270-196; OMB Control No. 3235-0202.

Notice is hereby given that, pursuant to the Paperwork Reduction Act of 1995 (44 U.S.C. 3501 et seq.), the Securities and Exchange Commission (“Commission”) is soliciting comments on the collections of information summarized below. The Commission plans to submit these existing collections of information to the Office of Management and Budget for extension and approval.

The Commission adopted Rule 15c2-11 ¹ (Rule 15c2-11 or Rule) in 1971 under the Securities Exchange Act of 1934 ² (Exchange Act) to regulate the initiation or resumption of quotations in a quotation medium by a broker-dealer for over-the-counter (OTC) securities. The Rule was designed primarily to prevent certain manipulative and fraudulent trading schemes that had arisen in connection with the distribution and trading of unregistered securities issued by shell companies or other companies having outstanding but infrequently traded securities. Subject to certain exceptions, the Rule prohibits brokers-dealers from publishing a quotation for a security, or submitting a quotation for publication, in a quotation medium unless they have reviewed specified information concerning the security and the issuer.

¹ 17 CFR 240.15c2-11.

² 15 U.S.C. 78a et seq.

The information required to be reviewed is submitted by the respondents to the National Association of Securities Dealers Regulation (“NASDR”) on Form 211 for review and approval.

According to NASDR estimates, we believe that approximately 1,200 new applications from broker-dealers to initiate or resume publication of covered OTC securities in the OTC Bulletin Board and/or the Pink Sheets or other quotation mediums were received by the NASDR for the 2004 calendar year. We estimate that 80% of the covered OTC securities were issued by reporting issuers, while the other 20% were issued by non-reporting issuers. We believe that it will take a broker-dealer about 4 hours to collect, review, record, retain, and supply to the NASDR the information pertaining to a reporting issuer, and about 8 hours to collect, review, record, retain, and supply to the NASDR the information pertaining to a non-reporting issuer.

We therefore estimate that broker-dealers who are the first to publish the first quote for a covered OTC security of a reporting issuer will require 3,840 hours (1,200 × 80% × 4) to collect, review, record, retain, and supply to the NASDR the information required by the Rule. We estimate that the broker-dealers who are the first to publish the first quote for a covered OTC security of a non-reporting issuer will require 1,920 hours (1,200 × 20% × 8) to collect, review, record, retain, and supply to the NASDR the information required by the Rule. We therefore estimate the total annual burden hours for the first broker-dealers to be 5,760 hours (3,840 + 1,920). The Commission estimates that the annual cost to comply with Rule 15c2-11 is $115,200 ($20 per hour times 5,760 hours).

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Securities and Exchange Commission, 450 5th Street, NW., Washington, DC 20549.

Dated: April 6, 2005.
Margaret H. McFarland,
Deputy Secretary.

[FR Doc. E5-1760 Filed 4-13-05; 8:45 am]

BILLING CODE 8010-01-P